DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2013, there were three applications approved. This notice also includes information on two applications, one approved in June 2011 and the other approved in March 2012, inadvertently left off the June 2011 and March 2012 notices, respectively. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L.101-508) and Part 158 of the Federal Aviation Regulations (14 CFR Part 158). This notice is published pursuant to paragraph d of § 158.29.

PFC Applications Approved

Public Agency: Birmingham Airport Authority, Birmingham, Alabama.

Application Number: 11-10-U-00-BHM.

Application Type: Use PFC Revenue.

PFC Level: $4.50.

Total PFC Revenue Approved for Use in this Decision: $4,133,110.

Charge Effective Date: July 1, 2010.

Estimated Charge Expiration Date: February 1, 2031.

Class of Air Carriers Not Required to Collect PFC's: No change from previous decision.

Brief Description of Project Approved for Use: Terminal demolition.

Decision Date: June 2, 2011.

FOR FURTHER INFORMATION CONTACT: Troy Butler, Southern Region Airports Division, (404) 305-6727.

Public Agency: Maryland Department of Transportation and Maryland Aviation Administration, Baltimore, Maryland.

Application Number: 12-09-C-00-BWI.

Application Type: Impose and use a PFC.

PFC Level: $4.50.

Total PFC Revenue Approved in this Decision: $132,294,117.

Earliest Charge Effective Date: October 1, 2019.

Estimated Charge Expiration Date: April 1, 2021.

Class of Air Carriers not Required to Collect PFC's: Air taxi/commercial operators filing FAA Form 1800-31.

Determination: Approved. Based on information contained in the public agency's application, the FAA has determined that the approved class accounts for less than 1 percent of the total annual enplanements at Baltimore-Washington International Thurgood Marshall Airport.

Brief Description of Project Partially Approved for Collection and Use at a $4.50 PFC Level: Terminal B/C connector.

Determination: Partially approved. A portion of the project was determined to be for administrative purposes rather than for the movement of passengers and baggage. Therefore, the percentage of the project determined to be PFC-eligible was reduced from that requested. In addition, the emergency power generator component of this project was determined to be ineligible for PFC funding.

Decision Date: March 15, 2012.

FOR FURTHER INFORMATION CONTACT: Jeffery Breeden, Washington Airports District Office, (703) 661-1363.

Public Agency: Williamsport Municipal Airport Authority, Montoursville, Pennsylvania.

Application Number: 13-03-C-00-IPT.

Application Type: Impose and use a PFC.

PFC Level: $4.50.

Total PFC Revenue Approved in this Decision: $225,000.

Earliest Charge Effective Date: November 1, 2013.

Estimated Charge Expiration Date: November 1, 2014.

Class of Air Carriers not Required to Collect PFC's: None.

Brief Description of Projects Approved for Collection and Use:

Improve runway 9 safety area, phase 2.

Extend parallel taxiway B to the runway 27 end, phase 1.

Extend parallel taxiway B to the runway 27 end, phase 2.

Extend parallel taxiway b to the runway 27 end, phase 3.

Extend taxiway D, phase 1.

Rehabilitate general aviation apron, phase 1.

Extend taxiway B to runway 27 end, phase 4.

Acquire aircraft rescue and firefighting vehicle.

Extend taxiway D, phase 2.

Rehabilitate general aviation apron, phase 2.

Taxiway A rehabilitation.

Decision Date: September 5, 2013.

FOR FURTHER INFORMATION CONTACT: Lori Ledebohm, Harrisburg Airports District Office, (717) 730-2835.

Public Agency: County of Marquette, Gwinn, Michigan.

Application Number: 13-11-C-00-SAW.

Application Type: Impose and use a PFC.

PFC Level: $4.50.

Total PFC Revenue Approved in this Decision: $253,245.

Earliest Charge Effective Date: December 1, 2014.

Estimated Charge Expiration Date: October 1, 2016.

Class of Air Carriers Not Required to Collect PFC's: Air taxi commercial operators engaged in non-scheduled activity that are operating at Sawyer International Airport (SAW).

Determination: Approved. Based on information contained in the public agency's application, the FAA has determined that the approved class accounts for less than 1 percent of the total annual enplanements at SAW.

Brief Description of Projects Approved for Collection and Use:

Parking lot improvements.

Hangar improvements—402 design and 600-series hangars.

Hangar improvements—402 phase 2, 400 series doors, and 600 series electrical/insulation.

Hangars 400, 423, 424, 425 interior insulation, electrical and lighting.

Taxiways E and F pavement design/construction.

Decision Date: September 11, 2013.

FOR FURTHER INFORMATION CONTACT: Irene Porter, Detroit Airports District Office, (734) 229-2915.

Public Agency: County of Broome, Johnson City, New York.

Application Number: 13-16-C-00-BGM.

Application Type: Impose and use a PFC.

PFC Level: $4.50.

Total PFC Revenue Approved in this Decision: $333,625.

Earliest Charge Effective Date: June 1, 2017.

Estimated Charge Expiration Date: May 1, 2018.

Class of Air Carriers not Required to Collect PFC's: Nonscheduled/on-demand air carriers filing FAA Form 1800-31.

Determination: Approved. Based on information contained in the public agency's application, the FAA has determined that the approved class accounts for less than 1 percent of the total annual enplanements at Greater Binghamton Airport.

Brief Description of Projects Approved for Collection and Use:

North apron rehabilitation, phase 2 design.

Airport security improvements design.

Hazardous wildlife study.

Brief Description of Projects Approved for Collection:

North apron rehabilitation, phase 2 construct.

Airport security improvements construct.

Brief Description of Project Partially Approved for Collection and Use:

Airport safety management system development.

Determination: Partially approved. The establishment of safety protocols for users of the airport to manage their own operations was determined not to be PFC eligible.

Decision Date: September 23, 2013.

FOR FURTHER INFORMATION CONTACT: Patricia Henn, Eastern Region Airports Division, (718) 553-3357.

Amendments to PFC Approvals
Amendment No. city, state | Amendment approved date | Original approved net PFC revenue | Amended approved net PFC revenue | Original estimated charge exp. date | Amended estimated charge exp. date
10-03-C-01-SBY, Salisbury, MD | 08/29/13 | $783,269 | $1,081,110 | 03/01/13 | 03/01/13
08-04-C-02-CHA, Chattanooga, TN | 09/04/13 | 2,520,376 | 2,501,388 | 10/01/12 | 10/01/12
08-04-C-01-HVN, New Haven, CT | 09/12/13 | 352,756 | 276,202 | 10/01/11 | 10/01/11
97-04-C-02-SAW, Gwinn, MI | 09/12/13 | 741,542 | 482,606 | 08/01/00 | 08/01/00
09-04-C-02-OAJ, Richlands, NC | 09/16/13 | 115,842 | 74,020 | 11/01/11 | 11/01/11
00-05-C-02-SAW, Gwinn, MI | 09/17/13 | 335,998 | 405,680 | 12/01/02 | 01/01/03
02-06-C-01-SAW, Gwinn, MI | 09/17/13 | 227,558 | 234,256 | 06/01/04 | 06/01/04
05-10-C-10-MCO, Orlando, FL | 09/19/13 | 749,303,511 | 749,303,511 | 12/01/19 | 12/01/19

Issued in Washington, DC, on December 30, 2013.
Joe Hebert,
Manager, Financial Analysis and Passenger Facility Charge Branch.

[FR Doc. 2013-31552 Filed 1-3-14; 8:45 am]

BILLING CODE 4910-13-P